DEPARTMENT OF THE INTERIOR

Fish and Wildlife Service

50 CFR Part 17

Endangered and Threatened Wildlife and Plants: 90-Day Finding on a Petition to List the California Spotted Owl as Threatened or Endangered

AGENCY: Fish and Wildlife Service, Interior.

ACTION: Notice of 90-day petition finding.

SUMMARY: We, the U.S. Fish and Wildlife Service (Service), announce a 90-day finding on a petition to list the California spotted owl (Strix occidentalis occidentalis) as threatened or endangered, under the Endangered Species Act (Act) of 1973, as amended (16 U.S.C. 1531 et seq.). We find that the petition presents substantial information indicating that listing the species may be warranted. A status review is initiated.

DATES: The finding announced in this document was made on October 5, 2000. To be considered in the 12-month finding for this petition, comments and information should be submitted to the Service by December 11, 2000.

ADDRESSES: Data, information, comments, or questions concerning this petition should be submitted to the Field Supervisor; Sacramento Fish and Wildlife Office; Sacramento Fish and Wildlife Office; 2800 Cottage Way, Room W-2605; Sacramento, California 95825. The petition finding, supporting literature, and comments are available for public inspection, by appointment, during normal business hours at the above address.

FOR FURTHER INFORMATION CONTACT: Catherine Hibbard or Maria Boroja at the Sacramento Fish and Wildlife Office (see ADDRESSES section above), or at (916) 414-6600.

SUPPLEMENTARY INFORMATION:

Background

Section 4(b)(3)(A) of the Endangered Species Act (Act) of 1973, as amended (16 U.S.C. 1531 et seq.), requires that the Service make a finding on whether a petition to list, delist, or reclassify a species presents substantial information indicating that the petitioned action may be warranted. This finding is based on information contained in the petition, supporting information submitted with the petition, and information otherwise available to us at the time we make the finding. To the maximum extent practicable, we make this finding within 90 days of the receipt of the petition, and the finding is to be published promptly in the Federal Register. If we find that substantial information was presented, we commence a review of the status of the involved species.

The processing of this petition conforms with the Service's final listing priority guidance published in the Federal Register on October 22, 1999 (64 FR 57114). The guidance clarifies the order in which we process rulemakings. Highest priority is processing emergency listing rules for any species determined to face a significant and imminent risk to its well-being (Priority 1). Second priority (Priority 2) is processing final determinations on proposed additions to the lists of endangered and threatened wildlife and plants. Third priority (Priority 3) is processing new proposals to add species to the lists. The processing of administrative petition findings (petitions filed under section 4 of the Act) is the fourth priority. The processing of critical habitat determinations (prudency and determinability decisions) and proposed or final designations of critical habitat will be funded separately from other section 4 listing actions and will no longer be subject to prioritization under the listing priority guidance. The processing of this petition finding is a Priority 4 action.

We have made a 90-day finding on a petition to list the California spotted owl as a threatened or endangered species. On April 3, 2000, we received a petition dated April 2000, to list the California spotted owl as a threatened or endangered species. The petition was submitted by the Center for Biological Diversity and the Sierra Nevada Forest Protection Campaign, who acted on the behalf of themselves and 14 other organizations. The letter clearly identified itself as a petition, and the names, signatures, and addresses of representatives of the two parties submitting the petition followed in a letter dated April 17, 2000. The petitioners requested the Service to designate critical habitat for the California spotted owl concurrent with listing, and also requested emergency listing and emergency critical habitat designation. The petition referenced supporting information on the subspecies' description, natural history, habitat, and population status. It also presented threats to the California spotted owl including present or threatened destruction, modification, or curtailment of the subspecies' habitat or range; other natural or manmade factors affecting the subspecies' continued existence; predation; and the inadequacy of existing regulatory mechanisms to protect the subspecies. This notice constitutes the 90-day finding for the April 3, 2000, petition.

The California spotted owl is one of three recognized subspecies of spotted owls. The other subspecies, the northern spotted owl (Strix occidentalis caurina), and the Mexican spotted owl (Strix occidentalis lucida), were listed by the Service as threatened. The final rule to list the northern spotted owl was published in the Federal Register on June 26, 1990 (55 FR 26114-26194) and the final rule to list the Mexican spotted owl was published in the Federal Register on March 16, 1993 (58 FR 14248-14271). Genetic studies have found evidence of interbreeding between the northern and California subspecies (Barrowclough et al. 1999).

The California spotted owl occurs on the west side of the Sierra Nevada from Shasta County south to the Tehachapi Pass. It also occurs on the eastern side of the Sierra, in the central Coast Ranges at least as far north as Monterey County, and in all major mountains of Southern California including the San Bernardino, San Gabriel, Tehachapi, north and south Santa Lucia, Santa Ana, Liebre/Sawmill, San Diego, San Jacinto, and Los Padres ranges.

The petition and accompanying documentation state that the California spotted owl qualifies for listing under the Act due to potential habitat destruction and modification, predation, the inadequacy of existing regulatory mechanisms to protect the subspecies, and other natural or human-caused factors affecting its continued existence. The petitioners contend that the California spotted owl is threatened by destruction, modification, or curtailment of habitat or range by logging on public and private lands, urban development, livestock grazing, mining, recreation, and road construction. According to the petitioners, logging, livestock grazing, and fire suppression have altered fire regimes over the range of the California spotted owl, putting some owl habitat at risk to loss by catastrophic fire. They also assert that habitat loss and modification may increase predation or the negative effects of climate on California spotted owls. Finally, they cite existing regulations or guidelines to manage California spotted owl habitat on public and private lands as inadequate regulatory mechanisms to protect the owl and its habitat.

The distribution and abundance of California spotted owls before intensive surveys were initiated in the late 20th century is largely unknown. As summarized in the petition, recent estimates of population change suggest populations of California spotted owls in the Lassen, Eldorado, and Sierra National Forests and in the San Bernardino Mountains of southern California have been significantly declining over the past several years, while a population of owls in the Sequoia/Kings Canyon National Park may be stable (Steger et al. 1999). These differences were attributed to higher rates of adult survival in the park (Steger et al. 1999).

Where owls are declining, modeled estimates indicate annual declines of 7-10 percent, but these estimates may not reflect true rates of declines for several reasons as discussed by Noon et al. (1992), Verner (1999) and USDA (2000). However, the declining trends of California spotted owls suggested by these models are generally corroborated by actual declines in occupied sites (Gordon Gould, California Department of Fish and Game, pers. comm., 2000). Most or all researchers studying the demography of California spotted owls agree that populations are declining, but uncertainty exists about the steepness of the decline (Verner 1999). For the Sierra Nevada, the Forest Service (USDA 2000) concluded “In summary, the demographic studies strongly suggest population declines in California spotted owls. The declines are sufficient to warrant concern, even in light of uncertainties in the magnitude of the declines.”

No studies have been designed to test cause and effects of population declines of California spotted owls (Verner 1999). Gutiérrez (1994) stated that logging has caused the greatest loss of habitat for all subspecies of spotted owls. California spotted owls in the Sierra Nevada may have undergone at least three periods of decline due to: (1) The elimination of prey species by intensive livestock grazing and burning in the 1800s; (2) logging beginning in the late 1800s, which removed basic elements of owl habitat; and (3) recent logging of regenerated stands (Gutiérrez 1994).

We have reviewed the petition and other information available in our files. Based on this review, we find that listing the California spotted owl as threatened or endangered may be warranted. When we make a positive finding, we are also required to promptly commence a review of the status of the species. Based on available and any newly obtained information, we will issue a 12-month finding as required by section 4(b)(3)(B) of the Act.

The petitioners requested that critical habitat be designated for the California spotted owl and also requested emergency listing and emergency designation of critical habitat. We note that emergency listing and designation of critical habitat are not petitionable actions under the Act. Based on the information presented in the petition, the habitat loss and other threats to the species have been long-standing and ongoing for many years. There are no imminent, devastating actions that could result in the extinction of the species. Therefore, we find that an emergency situation does not exist. The 12-month finding will address the issue of critical habitat.

Public Information Requested

The Service hereby announces its formal review of the species' status pursuant to this 90-day petition finding. We request additional data, comments, and suggestions from the public, other concerned governmental agencies, the scientific community, industry, or any other interested parties regarding the status of the California spotted owl. Of particular interest is information pertaining to the factors the Service uses to determine if a species is threatened or endangered: (1) the present or threatened destruction, modification, or curtailment of its habitat or range; (2) overutilization for commercial, recreational, scientific, or educational purposes; (3) disease or predation; (4) the inadequacy of existing regulatory mechanisms; and (5) other natural or manmade factors affecting its continued existence.

If you wish to comment, you may submit your comments and materials concerning this finding to the Field Supervisor, Sacramento Fish and Wildlife Office (see ADDRESSES section). Our practice is to make comments, including names and home addresses of respondents, available for public review during regular business hours. Respondents may request that we withhold their home address, which we will honor to the extent allowable by law. There also may be circumstances in which we would withhold a respondent's identity, as allowable by law. If you wish us to withhold your name and/or address, you must state this request prominently at the beginning of your comment. However, we will not consider anonymous comments. To the extent consistent with applicable law, we will make all submissions from organizations or businesses, and from individuals identifying themselves as representatives or officials of organizations or businesses, available for public inspection in their entirety. Comments and materials received will be available for public inspection, by appointment, during normal business hours at the above address.

References Cited

You may request a complete list of all references we cited, as well as others, from the Sacramento Fish and Wildlife Office (see ADDRESSES section).

Author: The primary author of this document is Catherine Hibbard, Sacramento Fish and Wildlife Office (see ADDRESSES section).

Authority: The authority for this action is the Endangered Species Act of 1973, as amended (16 U.S.C. 1531 et seq.).

Dated: October 5, 2000.
Jamie Rappaport Clark,
Director, U.S. Fish and Wildlife Service.

[FR Doc. 00-26181 Filed 10-11-00; 8:45 am]

BILLING CODE 4310-55-P